COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds a product and services to the Procurement List that will be furnished by nonprofit agencies employing persons who are blind or have other severe disabilities.

DATES: Effective Date: 7/2/2012.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or email CMTEFedReg@AbilityOne.gov.

SUPPLEMENTARY INFORMATION:

Additions

On 12/2/2011 (76 FR 75536-75537), 1/13/2012 (77 FR 2048) and 4/6/2012 (77 FR 20795), the Committee for Purchase From People Who Are Blind or Severely Disabled published notices of proposed additions to the Procurement List.

After consideration of the material presented to it concerning capability of qualified nonprofit agencies to provide the product and services and impact of the additions on the current or most recent contractors, the Committee has determined that the product and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 8501-8506) in connection with the product and services proposed for addition to the Procurement List.

End of Certification

Accordingly, the following product and services are added to the Procurement List:

Product

Product Name/NSN: Tie Down Strap, Cargo, Vehicle, 20′×2″/3990-01-204-3009.

NPA: Cottonwood, Incorporated, Lawrence, KS.

Contracting Activity: Defense Logistics Agency Troop Support, Philadelphia, PA.

Coverage: C-List for 100% of the requirement of the Department of Defense, as aggregated by the Defense Logistics Agency Troop Support, Philadelphia, PA.

Services

Service Type/Location: Grounds Maintenance, Beale AFB, CA.

NPA: Crossroads Diversified Service, Inc., Sacramento, CA.

Contracting Activity: Dept of the Air Force, FA4686 9 CONS LGC, Beale AFB, CA.

Service Type/Location: Contractor-Operated Civil Engineer Supply Store (COCESS), 30th Civil Engineering Squadron, 1515 Iceland Avenue, Room 150, Vandenberg AFB, CA.

NPA: Industries for the Blind, Inc., West Allis, WI.

Contracting Activity: Dept of the Air Force, FA4610 30 CONS LGC, Vandenberg AFB, CA.

Barry S. Lineback,
Director, Business Operations.

[FR Doc. 2012-13317 Filed 5-31-12; 8:45 am]

BILLING CODE 6353-01-P